GENERAL SERVICES ADMINISTRATION

[Notice MV-2024-01; Docket No. 2024-0002; Sequence No. 47]

Notice of the Federal Acquisition Regulatory Council (FAR Council) In-Person and Virtual Listening Session

AGENCY: Office of Government-wide Policy (OGP), General Services Administration (GSA).

ACTION: In-person and Virtual FAR Council Listening Session notice.

SUMMARY: In accordance with the Office of Federal Procurement Policy (OFPP) Act, the Federal Acquisition Regulatory Council (FAR Council) assists in the direction and coordination of Government-wide procurement policy and Government-wide procurement regulatory activities in the Federal Government. The FAR Council is chaired by the Office of Federal Procurement Policy, and consists of the General Services Administration, the Department of Defense, and the National Aeronautics and Space Administration.

DATES: Wednesday, December 4, 2024, from 9 a.m. to 12 p.m. eastern time (ET).

ADDRESSES: The listening session will be held in-person at the GSA Auditorium (1st Floor), 1800 F Street NW, Washington, DC 20405. The call-in information for virtual attendants will be made available to registrants.

FOR FURTHER INFORMATION CONTACT: Frederick Landry at frederick.landry@gsa.gov or at 202-227-1958.

SUPPLEMENTARY INFORMATION:

Registration

The FAR Council is committed to engaging with industry partners and the public with regards to FAR Council policies and issues relevant to current and future Federal Acquisition Regulation cases, including suggestions and concerns with new and existing policies. In addition, the FAR Council is interested in hearing views on topics such as: (1) new laws or draft legislation on which it should focus; (2) how it can improve the acquisition process; and (3) how to better integrate commercial practices into Federal acquisition. To that end, the FAR Council is hosting a hybrid in-person and virtual listening session on December 4, 2024.

Industry partners and the public wishing to attend in-person or virtually must register. Registrants who would like to attend in-person must do so no later than November 15, 2024. Registrants who would like to address the FAR Council must register in advance and no later than November 8, 2024. The FAR Council would like to hear the views of as many voices as practicable and will select questions/comments keeping in mind the number received, the limited time available and the order received. Industry partners and the public are asked to only register to speak to one of these categories:

• New policies the FAR Council should consider

• Existing policies the FAR Council should amend

• Concerns/suggestions regarding rules in process

• Concerns/suggestions regarding the use of emerging technology

• Concerns/suggestions regarding the process of rulemaking

• Other concerns/suggestions

To register to attend the listening session VIRTUALLY, do so at: https://gsa.zoomgov.com/webinar/register/7117272728587/WN_NU9vFABzQqmJ9mGtyUsNsQ.

To register to attend the listening session In-Person, do so at: https://forms.gle/yZj5RLdPdHRp5EnU8.

After registering, to request to speak on one of the previously listed categories, do so at: https://forms.gle/eFLwVcdb6K4EiKSg7.

Members of the press, in addition to registering for this event, must RSVP to press@gsa.gov by November 8, 2024.

Format

The in-person and virtual listening session will feature panel leaders from the FAR Council. Please complete the speaking request form to provide a brief summary of your comments in a specified category no later than 5 p.m. (ET) November 8, 2024. Registered participants that are selected to address the FAR Council will receive a confirmation and a timeframe to present.

In-person FAR Council Listening Session Panelists will be:

Jeffrey A. Koses, Senior Procurement Executive, General Services Administration

John M. Tenaglia, Principal Director, Defense Pricing, Contracting, and Acquisition Policy, Office of the Secretary of Defense, Department of Defense

Karla S. Jackson, Assistant Administrator for Procurement, NASA Headquarters

Agenda

• 9:00: Welcome and Introduction of the FAR Council

• 9:15: Facilitated opportunities for attendees to engage with the FAR Council

• 11:45: Closing remarks by FAR Council

Special Accommodations

This virtual meeting is accessible to people with disabilities using the Zoom close captioned feature.

Frederick Landry,
Analyst, Office of the Procurement Ombudsman, General Services Administration.

[FR Doc. 2024-23343 Filed 10-8-24; 8:45 am]

BILLING CODE 6820-61-P